DEPARTMENT OF TRANSPORTATION

[Docket No. DOT-OST-2023-0109]

Agency Requests for Reinstatement of a Previously Approved Information Collection(s) With Changes: Agency Information Collection Activities: Renewed Approval of Information Collection; Docket No. DOT-OST-2015-0061

AGENCY: Office of the Secretary of Transportation (OST), U.S Department of Transportation (DOT).

ACTION: Notice and request for comments.

SUMMARY: The Department of Transportation (DOT) invites public comments about our intention to request the Office of Management and Budget (OMB) approval to renew an information collection. The collection is necessary for the administration of discretionary grant funding, under the “Local and Regional Project Assistance Program,” established by the Infrastructure Investment and Jobs Act of 2021 (November 15, 2021, “Bipartisan Infrastructure Law” or “BIL”), referred to as the Rebuilding American Infrastructure with Sustainability and Equity (RAISE) program. We are required to publish this notice in the Federal Register by the Paperwork Reduction Act of 1995.

DATES: Written comments should be submitted by September 5, 2023.

ADDRESSES: You may submit comments [identified by Docket No. DOT-OST-2023-0109] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: John Augustine, 202-366-5437, Office of Infrastructure Finance, and Innovation, Office of the Secretary for Transportation Policy, U.S. Department of Transportation, 1200 New Jersey Avenue SE, Washington, DC 20590.

SUPPLEMENTARY INFORMATION:

OMB Control Number: XXXX-XXXX.

Title: Local and Regional Project Assistance Program or “RAISE Transportation Discretionary Grants”.

Form Numbers: None.

Type of Review: Reinstatement of a previously approved information collection.

Background: The Rebuilding American Infrastructure with Sustainability and Equity or RAISE Discretionary Grant program was authorized by the Bipartisan Infrastructure Law, 2021, and further funded through annual appropriations, under the National Infrastructure Investments program. This program provides a unique opportunity for the DOT to invest in road, rail, transit and port projects that promise to achieve national objectives. Previously known as the Better Utilizing Investments to Leverage Development (BUILD) and Transportation Investment Generating Economic Recovery (TIGER) Discretionary Grants, Congress has dedicated over $14 billion for fourteen rounds of National Infrastructure Investments to fund projects that have a significant local or regional impact.

RAISE recipients provide information to the Government so that the Government may monitor the financial conditions and construction progress of RAISE-supported projects and the effectiveness of those projects using performance measurement metrics negotiated between the recipients and the Government.

This notice seeks comments on the previous information collection, which collects information from grantees that is necessary for grant applications and the reporting requirements agreed to by recipients of RAISE Grants (formerly BUILD/TIGER).

The reporting requirements for the program is as follows:

In order to be considered to receive a TIGER/BUILD/RAISE grant, a project sponsor must submit an application to DOT containing a project narrative, as detailed in the Notice of Funding Opportunity (NOFO). The project narrative should include the information necessary for the Department to determine that the project satisfies eligibility requirements as warranted by law. This request renews the existing clearance to cover applications solicited for future National Infrastructure Investments appropriations (authorized under the Local and Regional Project Assistance Program in the BIL), solicited in a manner similar to the solicitation for TIGER and BUILD applications.

Following the announcement of a funding award, the recipient and DOT will negotiate and sign a grant agreement. In the grant agreement, the recipient must describe the project that DOT agreed to fund, which is typically the project that was described in the TIGER/BUILD/RAISE application or a reduced-scope version of that project. The grant agreement must also include a detailed breakdown of the project schedule and a budget listing all major activities that will be completed as part of the project.

During the project management stage, grantees will submit reports on the financial condition of the project and the project's progress. Grantees will submit progress and monitoring reports to the Government on a quarterly basis, beginning on the 20th of the first month of the calendar-year quarter following the execution of a grant agreement, and on the 20th of the first month of each calendar-year quarter thereafter until completion of the project. The report will include an executive summary and sections to show: Project activities; outstanding issues; project schedule; project cost; project funding status; and project quality, along with an SF-425 Federal Financial Report.

This information will be used to monitor grantees' use of Federal funds, ensuring accountability and financial transparency in the TIGER/BUILD/RAISE program.

Grantees will also submit reports on project performance using certain performance measures that the grantee and the Government select through negotiations. The Grantees will submit a Pre-project Report that will consist of current baseline data for each of the performance measures specified in the grant agreement. The Pre-project Report will include a detailed description of data sources, assumptions, variability, and the estimated level of precision for each measure. The Grantees will submit annual interim Project Performance Measurement Reports to the Government for each of the performance measures. Grantees will submit reports for three years. The Grantees will submit a Project Outcomes Report after the project is completed that will consist of a narrative discussion detailing project successes and/or the influence of external factors on project expectations. This information collected will be used to analyze project performance.

For New Applications:

Respondents: Eligible applicants include States and the District of Columbia, any territory or possession of the United States; a unit of local government; a public agency or publicly chartered authority established by 1 or more States; a special purpose district or public authority with a transportation function, including a port authority; a federally recognized Indian Tribe or a consortium of such Indian Tribes; a transit agency; and a multi-State or multijurisdictional group of entities.

Expected Number of Respondents: 1,000 applications per year.

Frequency: Once per year.

Estimated Average Burden per Response: 100 hours for each new application.

For Funding Agreements:

Expected Number of Respondents: Approximately 150 each year for the next three years.

Frequency: Once per year.

Estimated Average Burden per Response: 6 hours for each new Funding Agreement.

For Project Progress Monitoring-Quarterly Reports:

Expected Number of Respondents: Approximately 800 each year for the next three years.

Frequency: Quarterly

Estimated Average Burden per Response: 5 hours for each request for Quarterly Progress Report.

For Performance Measurement Reports-Annual Reports:

Expected Number of Respondents: Approximately 150 each year for the next three years.

Frequency: Once per year.

Estimated Average Burden per Response: 5 hours for each new Funding Agreement.

Application Stage

To be considered to receive a RAISE grant, a project sponsor must submit an application to DOT containing a project narrative, as detailed in the Notice of Funding Opportunity. The project narrative should include the information necessary for the Department to determine that the project satisfies eligibility requirements.

Applications must be submitted through https://www.Grants.gov. Instructions for submitting applications can be found at https://www.transportation.gov/RAISEgrants/apply. The application must include the Standard Form 424 (Application for Federal Assistance), Standard Form 424, Project Narrative, and a recommended Project Information Form.

The application should include a table of contents, maps, and graphics, as appropriate, to make the information easier to review. The Department recommends that the application be prepared with standard formatting preferences (i.e., a single-spaced document, using a standard 12-point font such as Times New Roman, with 1-inch margins). The project narrative may not exceed 30 pages in length, excluding cover pages and table of contents. The only substantive portions that may exceed the 30-page limit are documents supporting assertions or conclusions made in the 30-page project narrative. If possible, website links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged.

OST estimates that it takes approximately 100 person-hours to compile an application package for a RAISE application. Since OST expects to receive 1,000 applications per funding round, the total hours required are estimated to be 100,000 hours (100 hours × 1000 applications = 10,000 hours) on a one-time basis, per funding round.

Funding Agreement Stage

DOT enters a funding agreement with each recipient. In the agreement, the recipient describes the project that DOT agreed to fund, which is typically the project that was described in the RAISE application or a reduced-scope version of that project. The agreement also includes a project schedule, budget, and project related climate change and equity planning and policies.

OST estimates that it takes approximately 6 person-hours to respond to provide the information necessary for funding agreements. Based on previous rounds of RAISE awards, OST estimates that there will likely be 150 agreements negotiated per additional funding round. The total hours required are estimated to be 900 (6 hours × 150 agreements = 900 hours) on a one-time basis, per funding round.

Project Progress Monitoring Report

OST requires each recipient to submit quarterly reports during the project to ensure the proper and timely expenditure of Federal funds under the grant.

The requirements comply with 2 CFR part 200 and are restated in the funding agreement. During the project monitoring stage, the grantee will complete Quarterly Progress Reports to allow DOT to monitor the project budget and schedule.

OST estimates that it takes approximately 5 person-hours to develop and submit a quarterly progress report. OST expects approximately 150 projects to be awarded per future funding round, while grants awarded in prior years will reach completion during the year and would no longer need to submit these reports. OST expects recipients and awardees from 2016-2021 will require 7,700 hours (385 projects × 4 quarterly reports × 5 hours each) to submit quarterly progress reports while new recipients and awardees will require 9,000 hours (450 projects × 4 quarterly reports × 5 hours each from 2022-2024).

Grantees use the following structure when preparing this report:

The following list enumerates the required sections in the quarterly progress reports. At the discretion of the USDOT, modifications or additions can be made to produce a quarterly reporting format that will most effectively serve both the Recipient and the USDOT. Some projects will have a more extensive quarterly status than others. For smaller projects, the USDOT may determine that the content of the quarterly reports will be streamlined, and project status meetings will be held on a less-frequent basis. The first quarterly progress report should include a detailed description, and where appropriate, drawings, of the items funded.

(a) Project Overall Status. This section provides an overall status of the project's scope, schedule and budget. The Recipient shall note and explain any deviations from the scope of work described in the agreement.

(b) Project Significant Activities and Issues. This section provides highlights of key activities, accomplishments, and issues occurring on the project during the previous quarter. Activities and deliverables to be reported on should include meetings, audits and other reviews, design packages submitted, advertisements, awards, construction submittals, construction completion milestones, submittals related to any applicable Recovery Act requirements, media or Congressional inquiries, value engineering/constructability reviews, and other items of significance.

(c) Action Items/Outstanding Issues. This section should draw attention to, and track the progress of, highly significant or sensitive issues requiring action and direction in order to resolve. The Recipient should include administrative items and outstanding issues that could have a significant or adverse impact to the project's scope, budget, schedule. Status, responsible person(s), and due dates should be included for each action item/outstanding issue. Action items requiring action or direction should be included in the quarterly status meeting agenda. The action items/outstanding issues may be dropped from this section upon full implementation of the remedial action, and upon no further monitoring anticipated.

(d) Project Scope Overview. The purpose of this section is to provide a further update regarding the project scope. If the original scope contained in the grant agreement is still accurate, this section can simply state that the scope is unchanged.

(e) Project Schedule. An updated master program schedule reflecting the current status of the program activities should be included in this section. A Gantt (bar) type chart is probably the most appropriate for quarterly reporting purposes, with the ultimate format to be agreed upon between the Recipient and the USDOT. It is imperative that the master program schedule be integrated, i.e., the individual contract milestones tied to each other, such that any delays occurring in one activity will be reflected throughout the entire program schedule, with a realistic completion date being reported. Narratives, tables, and/or graphs should accompany the updated master program schedule, basically detailing the current schedule status, delays and potential exposures, and recovery efforts. The following information should also be included:

• Current overall project completion percentage vs. latest plan percentage.

• Completion percentages vs. latest plan percentages for major activities such as right-of-way, major or critical design contracts, major or critical construction contracts, and significant force accounts or task orders. A schedule status description should also be included for each of these major or critical elements.

• Any delays or potential exposures to milestone and final completion dates. The delays and exposures should be quantified, and overall schedule impacts assessed. The reasons for the delays and exposures should be explained, and initiatives being analyzed or implemented in order to recover the schedule should be detailed.

(f) Project Cost. An updated cost spreadsheet reflecting the current forecasted cost vs. the latest approved budget vs. the baseline budget should be included in this section. One way to track project cost is to show: (1) Baseline Budget, (2) Latest Approved Budget, (3) Current Forecasted Cost Estimate, (4) Expenditures or Commitments to Date, and (5) Variance between Current Forecasted Cost and Latest Approved Budget. Line items should include all significant cost centers, such as prior costs, right-of-way, preliminary engineering, environmental mitigation, general engineering consultant, section design contracts, construction administration, utilities, construction packages, force accounts/task orders, wrap-up insurance, construction contingencies, management contingencies, and other contingencies. The line items can be broken-up in enough detail such that specific areas of cost change can be sufficiently tracked, and future improvements made to the overall cost estimating methodology. A Program Total line should be included at the bottom of the spreadsheet. Narratives, tables, and/or graphs should accompany the updated cost spreadsheet, basically detailing the current cost status, reasons for cost deviations, impacts of cost overruns, and efforts to mitigate cost overruns. The following information should be provided:

• Reasons for each line-item deviation from the approved budget, impacts resulting from the deviations, and initiatives being analyzed or implemented in order to recover any cost overruns.

• Transfer of costs to and from contingency line items, and reasons supporting the transfers.

• Speculative cost changes that potentially may develop in the future, a quantified dollar range for each potential cost change, and the current status of the speculative change. Also, a comparison analysis to the available contingency amounts should be included, showing that reasonable and sufficient amounts of contingency remain to keep the project within the latest approved budget.

• Detailed cost breakdown of the general engineering consultant (GEC) services (if applicable), including such line items as contract amounts, task orders issued (amounts), balance remaining for tasks, and accrued (billable) costs.

• Federal obligations and/or disbursements for the project, compared to planned obligations and disbursements.

(g) Federal Financial Report (SF-425). The Federal Financial Report (SF-425) is a financial reporting form used throughout the Federal Government Grant system. Recipients shall complete this form and attach it to each quarterly Project Progress and Monitoring Report. The form is available at https://www.grants.gov/forms/post-award-reporting-forms.html.

(h) Certifications.

i. A certification that the Recipient is in compliance with 2 CFR 200.303 (Internal Controls) and 2 CFR part 200, subpart F (Audit Requirements).

ii. The certification required under 2 CFR 200.415(a).

Performance Measurement Reports

RAISE Transportation Discretionary Grant program grantees will submit Performance Measure Reports on the performance (or projected performance) of the project using the performance measures that the grantee and the Government selected through negotiations with the following timing and frequency requirements:

OST estimates that it takes approximately 5 person-hours to develop and submit an annual performance measure report. Grants awarded in prior years will reach completion and will begin to submit these reports. OST expects recipients and awardees from 2009-2012 have passed this reporting period, awardees from 2013-2015 will require 800 hours (160 projects × 5 hours each) to submit annual performance measurement reports while recipients and awardees from 2016-2018 will require 750 hours (150 projects × 5 hours each) in the next three years.

Grantees should use the following structure when preparing this report:

1. Performance Measure Data Collection. The Recipient shall collect the data necessary to report on each performance measure that is identified in the grant agreement. Grantees may select performance measures from the list available at https://www.transportation.gov/administrations/office-policy/tiger-performance-measurement-guidance-appendix, according to the type of project.

2. Pre-project Performance Measurement Report. The Recipient shall submit to DOT, on or before the Pre-project Report Date that is stated in the grant agreement, a Pre-project Performance Measurement Report that contains:

a. Baseline data for each performance measure that is identified in the grant agreement, accurate as of the Pre-project Measurement Date; and

b. A detailed description of the data sources, assumptions, variability, and estimated levels of precision for each measure.

3. Interim Performance Measurement Reports. After project completion, the Recipient shall submit to DOT on or before each of the periodic reporting dates specified in the Performance Measurement Table in the grant agreement, an Interim Performance Measurement Report containing data for each performance measure that is identified in that table, accurate as of the final date of the measurement period specified in that table. If an external factor significantly affects the value of a performance measure during a measurement period, then in the Interim Performance Measurement Report the Recipient shall identify that external factor and discuss its influence on the performance measure.

4. Project Outcomes Report. The Recipient shall submit to DOT, on or before the Project Outcomes Report Date that is stated in the grant agreement, a Project Outcomes Report that contains:

a. A narrative discussion detailing project successes and the influence of external factors on project expectations;

b. All baseline and interim performance measurement data that the Recipient reported in the Pre-project Performance Measurement Report and the Interim Performance Measurement Reports; and

(3) an ex post examination of project effectiveness relative to the baseline data that the Recipient reported in the Pre-project Performance Measurement Report.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1:48.

Issued in Washington, DC, on June 29, 2023.
John Augustine,
Director of the Office of Infrastructure Finance and Innovation, Office of the Under Secretary for Transportation Policy.

[FR Doc. 2023-14228 Filed 7-5-23; 8:45 am]

BILLING CODE 4910-9X-P